ENVIRONMENTAL PROTECTION AGENCY

[EPA-HQ-OPP-2017-0751; FRL-13004-01-OCSPP]

Pesticide Registration Review; Decisions and Case Closures for Several Pesticides; Notice of Availability

AGENCY: Environmental Protection Agency (EPA).

ACTION: Notice.

SUMMARY: This notice announces the availability of EPA's interim registration review decision for sedaxane.

FOR FURTHER INFORMATION CONTACT:

For pesticide specific information, contact: The Chemical Review Manager for sedaxane identified in Table 1 of Unit I.

For general information on the registration review program, contact: Melanie Biscoe, Pesticide Re-Evaluation Division (7508P), Office of Pesticide Programs, Environmental Protection Agency, 1200 Pennsylvania Ave. NW, Washington, DC 20460-0001; telephone number: (202) 566-0701; email address: biscoe.melanie@epa.gov.

SUPPLEMENTARY INFORMATION:

I. Purpose of this Notice

Pursuant to 40 CFR 155.58(c), this notice announces the availability of EPA's interim registration review decision for the pesticide shown in Table 1. The interim registration review decision is supported by rationales included in the docket established for each chemical.

Table 1—Interim and Final Registration Review Decision Being Issued
Registration review case name and No. | Docket ID No. | Chemical review manager and contact information
Sedaxane Case No. 7065 | EPA-HQ-OPP-2022-0448 | Samantha Carter, carter.samantha@epa.gov, (202) 566-1179.

II. Background

EPA is conducting its registration review of sedaxane pursuant to the Federal Insecticide, Fungicide, and Rodenticide Act (FIFRA) section 3(g) (7 U.S.C. 136a(g)) and the Procedural Regulations for Registration Review at 40 CFR part 155, subpart C. FIFRA section 3(g) provides, among other things, that pesticide registrations are to be reviewed every 15 years. Consistent with 40 CFR 155.57, in its final registration review decision, EPA will ultimately determine whether a pesticide continues to meet the registration standard in FIFRA section 3(c)(5) (7 U.S.C. 136a(c)(5)). As part of the registration review process, the Agency has completed an interim registration review decision for sedaxane.

Prior to completing the interim registration review decision for sedaxane, EPA posted and invited the public to submit any comments or new information on the proposed interim registration review decision and the amended proposed interim registration review decision (please see the sedaxane registration review docket at Regulations.gov), consistent with 40 CFR 155.58(a). EPA considered and responded to comments or information received during the public comment periods in the interim registration review decision.

For additional background on the registration review program, see: https://www.epa.gov/pesticide-reevaluation.

Authority: 7 U.S.C. 136 et seq.

Dated: October 6, 2025.
Jean Anne Overstreet,
Director, Pesticide Re-Evaluation Division, Office of Pesticide Programs.

[FR Doc. 2025-20138 Filed 11-17-25; 8:45 am]

BILLING CODE 6560-50-P